FEDERAL RESERVE SYSTEM

Agency Information Collection Activities: Proposed Collection; Comment Request

AGENCY: Board of Governors of the Federal Reserve System.

SUMMARY: Background.

On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. whether the proposed collections of information are necessary for the proper performance of the Federal Reserve's functions; including whether the information has practical utility;

b. the accuracy of the Federal Reserve's estimate of the burden of the proposed information collections, including the validity of the methodology and assumptions used;

c. ways to enhance the quality, utility, and clarity of the information to be collected; and

d. ways to minimize the burden of information collections on respondents, including through the use of automated collection techniques or other forms of information technology.

DATES: Comments must be submitted on or before November 20, 2000.

ADDRESSES: Comments, which should refer to the OMB control number or agency form number, should be addressed to Jennifer J. Johnson, Secretary, Board of Governors of the Federal Reserve System, 20th and C Streets, N.W., Washington, DC 20551, or mailed electronically to regs.comments@federalreserve.gov. Comments addressed to Ms. Johnson also may be delivered to the Board's mailroom between 8:45 a.m. and 5:15 p.m., and to the security control room outside of those hours. Both the mailroom and the security control room are accessible from the courtyard entrance on 20th Street between Constitution Avenue and C Street, N.W. Comments received may be inspected in room M-P-500 between 9:00 a.m. and 5:00 p.m., except as provided in section 261.14 of the Board's Rules Regarding Availability of Information, 12 CFR 261.14(a).

A copy of the comments may also be submitted to the OMB desk officer for the Board: Alexander T. Hunt, Office of Information and Regulatory Affairs, Office of Management and Budget, New Executive Office Building, Room 3208, Washington, DC 20503.

FOR FURTHER INFORMATION CONTACT: A copy of the proposed form and instructions, the Paperwork Reduction Act Submission (OMB 83-I), supporting statement, and other documents that will be placed into OMB's public docket files once approved may be requested from the agency clearance officer, whose name appears below. Mary M. West, Federal Reserve Board Clearance Officer (202-452-3829), Division of Research and Statistics, Board of Governors of the Federal Reserve System, Washington, DC 20551. Telecommunications Device for the Deaf (TDD) users may contact Diane Jenkins, (202-452-3544), Board of Governors of the Federal Reserve System, Washington, DC 20551.

Proposal To Approve Under OMB Delegated Authority the Extension for Three Years, With Revision, of the Following Reports

1. Report title: Annual Report of Bank Holding Companies (FR Y-6) and Changes in Investments and Activities of Top-Tier Financial Holding Companies, Bank Holding Companies, and State Member Banks (FR Y-6A)

Agency form number: FR Y-6 and FR Y-6A

OMB control number: 7100-0124

Frequency: annual and event-generated

Reporters: domestic top-tier BHCs

Annual reporting hours: 22,552 hours.

Estimated average hours per response: 4 hours.

Number of respondents: 5,638.

Small businesses are not affected.

General description of report: This information collection is mandatory; Section 5(c) of the Bank Holding Company Act (BHC Act) (12 U.S.C. 1844(c)); Section 9 of the FRA (12 U.S.C. 321); Section 25 of the FRA (12 U.S.C. 601-604a); Section 25A of the FRA (12 U.S.C. 611-631); and, Regulation Y (12 CFR part 225). Upon request from a respondent, certain information may be given confidential treatment pursuant to the Freedom of Information Act (5 U.S.C. §§ 552(b)(4) and (6)).

Abstract: All top-tier BHCs file the FR Y-6 which collects financial data, an organization chart and information about shareholders. The Federal Reserve uses the data to monitor holding company operations and determine holding company compliance with the provisions of the Bank Holding Company Act (BHC Act) and Regulation Y (12 CFR 225). The FR Y-6A is an event-generated report filed by top-tier bank holding companies and unaffiliated state member banks to report changes in regulated investments and activities made pursuant to the Bank Holding Company Act and Regulation Y. The report collects information relating to acquisitions, divestitures, changes in activities, and legal authority. The number of FR Y-6As submitted varies depending on the reportable activity engaged in by each bank holding company.

Current actions: The FR Y-6 organization charts would be revised to exclude small merchant banking investments and to include parallel language from the reportable entities sections of the proposed FR Y-10 instructions, as appropriate. To reduce respondent burden and make the forms easier to use, the Federal Reserve proposes to reformat the FR Y-6A into a new form, the FR Y-10. The proposed FR Y-10 and FR Y-10F forms would make the reporting of structure data for domestic and foreign banking organizations more similar. In addition to the formatting changes, the following changes would be made to the data content currently collected on the FR Y-6A: increase the thresholds for investments to be included, reduce the types of investments to be included, and streamline the method of reporting percentage of ownership for nonbanking investments. Reporting fewer investments will reduce reporting burden. In addition, reporting of legal authority (regulatory) and activity codes would be simplified.

2. Report title: Annual Report of Foreign Banking Organizations (FR Y-7) and Foreign Banking Organization Structure Report on U.S. Banking and Nonbanking Activities (FR Y-7A)

Agency form number: FR Y-7 and FR Y-7A

OMB control number: 7100-0125

Frequency: annual, event-generated

Reporters: foreign banking organizations

Annual reporting hours: 3,761

Estimated average hours per response: 11.5 hours

Number of respondents: 327

Small businesses are not affected.

General description of report: This information collection is mandatory; Section 5(c) of the BHC Act (12 U.S.C. 1844(c)); Section 7 and 13(a) of the International Banking Act of 1978 (12 U.S.C. 3106 and 3108 (a)); Section 25 of the FRA (12 U.S.C. 601-604a); Section 25A of the FRA (12 U.S.C. 611-631); and, Regulation Y (12 CFR part 225). Upon request from a respondent, certain information may be given confidential treatment pursuant to the Freedom of Information Act (5 U.S.C. §§ 552(b)(4) and (6)).

Abstract: The FR Y-7 is a report filed by all FBOs that engage in banking in the United States, either directly or indirectly, to update their financial and organizational information. The Federal Reserve uses information to assess an FBO's ability to be a continuing source of strength to its U.S. banking operations and to determine compliance with U.S. laws and regulations. The FR Y-7A is a structural report completed by foreign banking organizations that engage in banking in the United States, either indirectly through a subsidiary bank, Edge or agreement corporation, or commercial lending company, or directly through a branch or agency. The information contained in this report is used by the Federal Reserve System to assess the foreign banking organization's ability to be a continuing source of strength to its U.S. banking operations and to determine compliance with U.S. laws and regulations.

Current actions: The FR Y-7 would be revised to include information on business measurement tests currently included on the FR Y-7A. Also, the due date would be changed to 90 calendar days after the respondent's fiscal year end to be consistent with the FR Y-6. The FR Y-7 organization charts would be revised to exclude small merchant banking investments and to include parallel language from the reportable entities sections of the proposed FR Y-10F instructions, as appropriate. To reduce respondent burden and make the forms easier to use, the Federal Reserve proposes to reformat the FR Y-7A into a new form, the FR Y-10F. The proposed FR Y-10F and FR Y-10 forms would make the reporting of structure data for foreign banking organizations and domestic more similar. In addition to the formatting changes, the following changes would be made to the data content currently collected on the FR Y-7A: increase the thresholds for investments to be included, reduce the types of investments to be included, and streamline the method of reporting percentage of ownership for nonbanking investments. Reporting fewer investments will reduce reporting burden. In addition, reporting of legal authority (regulatory) and activity codes would be simplified. For consistency purposes, FBOs, which currently file on an annual basis, would report the required structure information on an event-generated basis. The FR Y-10F report would also include data on managed non-U.S. branches, not included on the FR Y-7A report.

Proposal to Approve Under OMB Delegated Authority the Revision, Without Extension, of the Following Report

Report title: Report of Changes in Foreign Investments Made Pursuant to Regulation K

Agency form number: FR 2064

OMB control number: 7100-0109

Frequency: event-generated

Reporters: BHCs, member banks, and Edge and agreement corporations

Annual reporting hours: 64

Estimated average hours per response: .40 hours

Number of respondents: 40

Small businesses are not affected.

General description of report: This information collection is mandatory; Section 5(c) of the BHC Act (12 U.S.C. 1844(c)); Section 7 and 13(a) of the International Banking Act of 1978 (12 U.S.C. 3106 and 3108 (a)); Section 25 of the FRA (12 U.S.C. 601-604a); Section 25A of the FRA (12 U.S.C. 611-631); and, Regulation K (12 CFR part 211.7(c)); and is given confidential treatment (5 U.S.C. 552(b)(4) and (b)(6)).

Abstract: The Report of Changes in Foreign Investments Made Pursuant to Regulation K is an event-generated report filed by BHCs, member banks, and Edge and agreement corporations to record changes in their international investments. The Federal Reserve uses the information to monitor investments in the international operations of U.S. banking organizations and to fulfill its supervisory responsibilities under Regulation K.

Current Actions: The FR 2064 would be revised to include only the information on historical cost of investments, as required by Regulation K; structure information would be moved to the proposed FR Y-10. Also, the threshold for reporting these foreign investments would be raised, and the reporting frequency of the FR 2064 would be changed from event-generated to quarterly.

Proposal To Approve Under OMB Delegated Authority the Implementation of the Following Reports

Report title: Report of Changes in Organizational Structure (FR Y-10) and Report of Changes in FBO Organizational Structure (FR Y-10F).

Agency form number: FR Y-10 and FR Y-10F.

Frequency: event-generated.

Reporters: FR Y-10: bank holding companies, member banks not affiliated with a bank holding company, Edge and agreement corporations; FR Y-10F: foreign banking organizations.

Annual reporting hours: FR Y-10: 12,240 hours; FR Y-10F: 2,044 hours.

Estimated average hours per response: 1.25 hours.

Number of respondents: FR Y-10: 2,448; FR Y-10F: 327.

Small businesses are not affected.

General description of report: These information collections are mandatory; Section 5(c) of the Bank Holding Company Act (BHC Act) (12 U.S.C. 1844(c)); Section 4 of the BHC Act (12 U.S.C. 1843(k)); Section 25 of the FRA (12 U.S.C. 601-604a); Section 25A of the FRA (12 U.S.C. 611-631); and, Regulation Y (12 CFR part 225); FR Y-10 only—Section 9 of the FRA (12 U.S.C. 321); FR Y-10F only—Section 7 and 13(a) of the international Banking Act of 1978 (12 U.S.C. 3106 and 3108 (a)). Upon request from a respondent, certain information may be given confidential treatment pursuant to the Freedom of Information Act (5 U.S.C. §§ 552(b)(4) and (6)).

Current actions: To reduce burden and make the forms easier to use, the Federal Reserve proposes to reformat the FR Y-6A and FR Y-7A into two forms, the FR Y-10 and FR Y-10F, respectively. These forms would make the reporting of structure data for domestic and foreign banking organizations more similar. In addition to the formatting changes, the following changes would be made to the data content currently collected on the FR Y-6A and FR Y-7A: increase the thresholds for investments to be included, reduce the types of investments to be included, and streamline the method of reporting percentage of ownership for nonbanking investments. In addition, reporting of legal authority (regulatory) and activity codes would be simplified. To improve the timeliness of the data, the reporting schedule of the FR Y-10 and FR Y-10F reports would vary for different types of transactions. For consistency purposes, FBOs, which currently file on an annual basis, would report the required structure information on an event-generated basis. The FR Y-10F report would also include data on managed non-U.S. branches, not included on the FR Y-7A report. In addition structure information would be moved from the FR 2064 to the FR Y-10.

In particular the Federal Reserve is requesting comment on the following:

The Federal Reserve considered additional alternatives for reducing reporting burden for these reports. One possibility would be a materiality test for reporting nonbanking companies (such as insurance and securities companies) that do not file financial reports with the Federal Reserve System. The Federal Reserve solicits comment on whether such a materiality test would be helpful, and, if so, how this should be defined. The FR Y-6 and FR Y-7 include organization charts, which would collect information about entities that would not be reportable on the proposed FR Y-10 and FR Y-10F. The Federal Reserve solicits comment on whether reporters would find it easier to annotate the organization charts to show the entities that are not reportable on the proposed new reports or to list those entities separately.

The proposed FR Y-10 and FR Y-10F would collect information about a reportable entity's primary activity, and the proposed definition of ‘primary’ is based on revenue. The Federal Reserve solicits comment on whether gross or net revenue is appropriate for this definition or, as an alternative, whether assets should be used.

The Federal Reserve also solicits comments on whether reporters would find NAICS codes useful in describing the activities of their nonbanking entities.

Board of Governors of the Federal Reserve System, September 15, 2000.
Jennifer J. Johnson,
Secretary of the Board.

[FR Doc. 00-24156 Filed 9-19-00; 8:45 am]

BILLING CODE 6210-01-P